DEFENSE NUCLEAR FACILITIES SAFETY BOARD

10 CFR Part 1703

Proposed FOIA Fee Schedule Update

AGENCY: Defense Nuclear Facilities Safety Board.

ACTION: Notice of proposed rulemaking.

SUMMARY: Pursuant to 10 CFR 1703.107(b)(6) of the Board's regulations, the Defense Nuclear Facilities Safety Board is publishing its proposed Freedom of Information Act (FOIA) Fee Schedule Update and solicits comments from interested organizations and individual members of the public.

DATES: To be considered, comments must be mailed or delivered to the address listed below by 5 p.m. on or before June 15, 2011.

ADDRESSES: Comments on the proposed fee schedule should be mailed or delivered to the Office of the General Counsel, Defense Nuclear Facilities Safety Board, 625 Indiana Avenue, NW., Suite 700, Washington, DC 20004. All comments will be placed in the Board's public files and will be available for inspection between 8:30 a.m. and 4:30 p.m., Monday through Friday (except on Federal holidays), in the Board's Public Reading Room at the same address.

FOR FURTHER INFORMATION CONTACT: Brian Grosner, General Manager, Defense Nuclear Facilities Safety Board, 625 Indiana Avenue, NW., Suite 700, Washington, DC 20004-2901, (202) 694-7060.

SUPPLEMENTARY INFORMATION: The FOIA requires each Federal agency covered by the Act to specify a schedule of fees applicable to processing of requests for agency records. 5 U.S.C. 552(a)(4)(i). Pursuant to 10 CFR 1703.107(b)(6) of the Board's regulations, the Board's General Manager will update the FOIA Fee Schedule once every 12 months. Previous Fee Schedule Updates were published in the Federal Register and went into effect, most recently, on July 12, 2010, 75 FR 39629. The Board's proposed fee schedule is consistent with the guidance. The components of the proposed fees (hourly charges for search and review and charges for copies of requested documents) are based upon the Board's specific cost.

Board Action

Accordingly, the Board proposes to establish the following schedule of updated fees for services performed in response to FOIA requests:

Defense Nuclear Facilities Safety Board Schedule of Fees for FOIA Services
[Implementing 10 CFR 1703.107(b)(6)]
Search or Review Charge | $77.00 per hour.
Copy Charge (paper) | $.12 per page, if done in-house, or generally available commercial rate (approximately $.10 per page).
Electronic Media | $5.00.
Copy Charge (audio cassette) | $3.00 per cassette.
Duplication of DVD | $25.00 for each individual DVD; $16.50 for each additional individual DVD.
Copy Charge for large documents (e.g., maps, diagrams) | Actual commercial rates.

Dated: May 3, 2011.
Brian Grosner,
General Manager.

[FR Doc. 2011-11880 Filed 5-13-11; 8:45 am]

BILLING CODE 3670-01-P